DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Boulder (FEMA Docket No.: B-2335). | City of Boulder (22-08-0586P). | The Honorable Aaron Brockett, Mayor, City of Boulder, 1777 Broadway Street, Boulder, CO 80306. | City Hall, 1777 Broadway Street, Boulder, CO 80306. | Jul. 17, 2023 | 080024
Grand (FEMA Docket No.: B-2335). | Town of Fraser (22-08-0389P). | Ed Cannon, Manager, Town of Fraser, P.O. Box 370, Fraser, CO 80442. | Planning Department, 153 Fraser Avenue, Fraser, CO 80442. | Jun. 23, 2023 | 080073
Grand (FEMA Docket No.: B-2335). | Unincorporated areas of Grand County (22-08-0389P). | Edward T. Moyer, Grand County Manager, P.O. Box 264, Hot Sulphur Springs, CO 80451. | Grand County Community Development Department, 308 Byers Avenue, Hot Sulphur Springs, CO 80451. | Jun. 23, 2023 | 080280
Florida:
Monroe (FEMA Docket No.: B-2341). | Village of Islamorada (23-04-0726P). | The Honorable Joseph Buddy Pinder III, Mayor, Village of Islamorada, 86800 Overseas Highway, Islamorada, FL 33036. | Building Department, 86800 Overseas Highway, Islamorada, FL 33036. | Jul. 10, 2023 | 120424
Osceola (FEMA Docket No.: B-2341). | City of St. Cloud (22-04-0527P). | The Honorable Nathan Blackwell, Mayor, City of St. Cloud, 1300 9th Street, St. Cloud, FL 34769. | City Hall, 1300 9th Street, St. Cloud, FL 34769. | Jul. 7, 2023 | 120191
Osceola (FEMA Docket No.: B-2341). | Unincorporated areas of Osceola County (22-04-0527P). | Donald Fisher, Osceola County Manager, 1 Courthouse Square, Suite 4700, Kissimmee, FL 34741. | Osceola County Public Works Department, 1 Courthouse Square, Suite 3100, Kissimmee, FL 34741. | Jul. 7, 2023 | 120189
Palm Beach (FEMA Docket No.: B-2341). | Village of Tequesta (22-04-0040P). | The Honorable Molly Young, Mayor, Village of Tequesta, 345 Tequesta Drive, Tequesta, FL 33469. | Building Department, 345 Tequesta Drive, Tequesta, FL 33469. | Jul. 10, 2023 | 120228
Volusia (FEMA Docket No.: B-2335). | City of Edgewater (22-04-4207P). | The Honorable Diezel DePew, Mayor, City of Edgewater, P.O. Box 100, Edgewater, FL 32132. | Stormwater Department, 409 Mango Tree Drive, Edgewater, FL 32132. | Jul. 14, 2023 | 120308
Volusia (FEMA Docket No.: B-2335). | Unincorporated areas of Volusia County (22-04-4207P). | George Recktenwald, Manager, Volusia County, 123 West Indiana Avenue, DeLand, FL 32720. | Volusia County Thomas C. Kelly Administration Center, 123 West Indiana Avenue, DeLand, FL 32720. | Jul. 14, 2023 | 125155
Michigan:
Genesee (FEMA Docket No.: B-2341). | City of Flint (22-05-1981P). | The Honorable Sheldon Neeley, Mayor, City of Flint, 1101 South Saginaw Street, Flint, MI 48502. | Department of Public Works, 1101 South Saginaw Street, Flint, MI 48502. | Jul. 10, 2023 | 260076
Genesee (FEMA Docket No.: B-2341). | Township of Flint (22-05-1981P). | Karyn Miller, Township of Flint Supervisor, 1490 South Dye Road, Flint, MI 48532. | Building Department, 1490 South Dye Road, Flint, MI 48532. | Jul. 10, 2023 | 260395
Genesee (FEMA Docket No.: B-2341). | Township of Genesee (22-05-1981P). | Daniel Eashoo, Township of Genesee Supervisor, 7244 North Genesee Road, Genesee, MI 48437. | Department of Public Works, 7244 North Genesee Road, Genesee, MI 48437. | Jul. 10, 2023 | 260078
New Mexico:
Curry (FEMA Docket No.: B-2335). | City of Clovis (22-06-0491P). | The Honorable Mike Morris, Mayor, City of Clovis, 321 North Connelly Street, Clovis, NM 88101. | City Hall, 321 North Connelly Street, Clovis, NM 88101. | Jul. 13, 2023 | 350010
Curry (FEMA Docket No.: B-2335). | Unincorporated areas of Curry County (22-06-0491P). | Lance A. Pyle, Curry County Manager, 417 Gidding Street, Suite 100, Clovis, NM 88101. | Curry County Clerk's Office, 417 Gidding Street, Suite 130, Clovis, NM 88101. | Jul. 13, 2023 | 350127
North Carolina: Orange (FEMA Docket No.: B-2334). | Town of Chapel Hill (22-04-2985P). | The Honorable Pam Hemminger, Mayor, Town of Chapel Hill, 405 Martin Luther King Jr. Boulevard, Chapel Hill, NC 27514. | Town Hall, 405 Martin Luther King Jr. Boulevard, Chapel Hill, NC 27514. | Jul. 28, 2023 | 370180
South Carolina:
Jasper (FEMA Docket No.: B-2341). | City of Hardeeville (22-04-1790P). | Michael J. Czymbor, Manager, City of Hardeeville, 205 Main Street, Hardeeville, SC 29927. | City Hall, 205 Main Street, Hardeeville, SC 29927. | Jun. 29, 2023 | 450113
Jasper (FEMA Docket No.: B-2341). | Unincorporated areas of Jasper County (22-04-1790P). | The Honorable Barbara Clark, Vice Chair, Jasper County Council, 358 3rd Avenue, Ridgeland, SC 29936. | Jasper County Planning and Building Services Department, 358 3rd Avenue, Ridgeland, SC 29936. | Jun. 29, 2023 | 450112
Texas:
Bexar (FEMA Docket No.: B-2341). | City of Helotes (21-06-3308P). | The Honorable Rich Whitehead, Mayor, City of Helotes, P.O. Box 507, Helotes, TX 78023. | City Hall, 12951 Bandera Road, Helotes, TX 78023. | Jul. 10, 2023 | 481643
Collin (FEMA Docket No.: B-2335). | City of Lucas (22-06-1259P). | The Honorable Jim Olk, Mayor, City of Lucas, 665 Country Club Road, Lucas, TX 75002. | Public Works Department, 665 Country Club Road, Lucas, TX 75002. | Jun. 26, 2023 | 481545
Collin (FEMA Docket No.: B-2335). | City of Parker (22-06-1259P). | The Honorable Lee Pettle, Mayor, City of Parker, 5700 East Parker Road, Parker, TX 75002. | Public Works Department, 5700 East Parker Road, Parker, TX 75002. | Jun. 26, 2023 | 480139
Collin (FEMA Docket No.: B-2335). | Unincorporated areas of Collin County (22-06-1259P). | The Honorable Chris Hill, Collin County Judge, 2300 Bloomdale Road, Suite 4192, McKinney, TX 75071. | Collin County Engineering Department, 4690 Community Avenue, Suite 200, McKinney, TX 75071. | Jun. 26, 2023 | 480130
Dallas (FEMA Docket No.: B-2341). | City of Coppell (22-06-1246P). | The Honorable Wes Mays, Mayor, City of Coppell, P.O. Box 9478, Coppell, TX 75019. | Department of Public Works, 265 East Parkway Boulevard, Coppell, TX 75019. | Jul. 10, 2023 | 480170
Ellis (FEMA Docket No.: B-2334). | City of Grand Prairie (22-06-2161P). | Steve Dye, Manager, City of Grand Prairie, P.O. Box 534045, Grand Prairie, TX 75053. | City Hall, 300 West Main Street, Grand Prairie, TX 75050. | Jul. 3, 2023 | 485472
Ellis (FEMA Docket No.: B-2334). | City of Midlothian (22-06-2960P). | The Honorable Richard Reno, Mayor, City of Midlothian, 104 West Avenue E, Midlothian, TX 76065. | Engineering Department, 104 West Avenue E, Midlothian, TX 76065. | Jul. 14, 2023 | 480801
Fannin (FEMA Docket No.: B-2335). | Unincorporated areas of Fannin County (22-06-0044P). | The Honorable Randy Moore, Fannin County Judge, 101 East Sam Rayburn Drive, Suite 214, Bonham, TX 75418. | Fannin County Emergency Management Department, 2375 Silo Road, Bonham, TX 75418. | Jul. 5, 2023 | 480807
Harris (FEMA Docket No.: B-2341). | Unincorporated areas of Harris County (22-06-0855P). | The Honorable Lina Hidalgo, Harris County Judge, 1001 Preston Street, Suite 911, Houston, TX 77002. | Harris County Permits Office, 1111 Fannin Street, 8th Floor, Houston, TX 77002. | Jul. 3, 2023 | 480287
Tarrant (FEMA Docket No.: B-2341). | City of Grapevine (22-06-1246P). | The Honorable William D. Tate, Mayor, City of Grapevine, P.O. Box 95104, Grapevine, TX 76099. | City Hall, 200 South Main Street, Grapevine, TX 76051. | Jul. 10, 2023 | 480598
Travis (FEMA Docket No.: B-2335). | City of Round Rock (22-06-0823P). | The Honorable Craig Morgan, Mayor, City of Round Rock, 221 East Main Street, Round Rock, TX 78664. | City Hall, 221 East Main Street, Round Rock, TX 78664. | Jul. 10, 2023 | 481048
Travis (FEMA Docket No.: B-2335). | Unincorporated areas of Travis County (22-06-0823P). | The Honorable Andy Brown, Travis County Judge, P.O. Box 1748, Austin, TX 78767. | Travis County Transportation and Natural Resources Department, 700 Lavaca Street, 5th Floor, Austin, TX 78701. | Jul. 10, 2023 | 481026
Williamson (FEMA Docket No.: B-2335). | Unincorporated areas of Williamson County (22-06-2448P). | The Honorable Bill Gravell, Jr., Williamson County Judge, Mayor, City of Keller, 710 South Main Street, Suite 101, Georgetown, TX 78626. | Williamson County Engineering Department, 3151 Southeast Inner Loop, Georgetown, TX 78626. | Jul. 13, 2023 | 481079
Utah:
Washington (FEMA Docket No.: B-2335). | City of St. George (22-08-0422P). | John Willis, Manager, City of St. George, 175 East 200 North, St. George, UT 84770. | Public Works and Engineering Department, 175 East 200 North, St. George, UT 84770. | Jun. 30, 2023 | 491177
Virginia:
Loudoun (FEMA Docket No.: B-2335). | Unincorporated areas of Loudoun County (22-03-1016P). | Tim Hemstreet, Loudoun County Administrator, 1 Harrison Street, Southeast, 5th Floor, Leesburg, VA 20175. | Loudoun County Government Center, 1 Harrison Street Southeast, 3rd Floor, MSC #60, Leesburg, VA 20175. | Jul. 10, 2023 | 510090

[FR Doc. 2023-16742 Filed 8-4-23; 8:45 am]

BILLING CODE 9110-12-P